COMMISSION ON CIVIL RIGHTS

Agenda and Notice of Public Meeting of the Connecticut Advisory Committee

Notice is hereby given, pursuant to the provisions of the rules and regulations of the U.S. Commission on Civil Rights, that a meeting of the Connecticut Advisory Committee to the Commission will convene at 1 p.m. and adjourn at 5 p.m. on Thursday, April 3, 2003, at the Family Services Woodfield, 475 Clinton Ave., Bridgeport, CT 06605. The purpose of this meeting will be orientation and planning future program activities.

Persons desiring additional information, or planning a presentation to the Committee, should contact Ki-Taek Chun, Director of the Eastern Regional Office, 202-376-7533 (TDD 202-376-8116) or Patrick Johnson, Jr., chair, (860) 242-2274 ext 3801. Hearing-impaired persons who will attend the meeting and require the services of a sign language interpreter should contact the Regional Office at least ten (10) working days before the scheduled date of the meeting.

The meeting will be conducted pursuant to the provisions of the rules and regulations of the Commission.

Dated in Washington, DC March 19, 2003.
Ivy L. Davis,
Chief, Regional Programs Coordination Unit.

[FR Doc. 03-7720 Filed 3-31-03; 8:45 am]

BILLING CODE 6335-01-P